SMALL BUSINESS ADMINISTRATION

[Disaster Declaration # 11160 and # 11161]

Indiana Disaster # IN-00017

AGENCY: U.S. Small Business Administration.

ACTION: Notice.

SUMMARY: This is a Notice of the Presidential declaration of a major disaster for the State of INDIANA (FEMA-1740-DR), dated 01/30/2008.

Incident: Severe Storms and Flooding.

Incident Period: 01/07/2008 and continuing.

EFFECTIVE DATE: 01/30/2008.

Physical Loan Application Deadline Date: 03/31/2008.

Economic Injury (EIDL) Loan Application Deadline Date: 10/30/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 01/30/2008, applications for disaster loans may be filed at the address listed above or other locally announced locations.

The following areas have been determined to be adversely affected by the disaster:

Primary Counties (Physical Damage and Economic Injury Loans):

Carroll, Cass, Elkhart, Fulton, Jasper, Marshall, Pulaski, Tippecanoe, White.

Contiguous Counties (Economic Injury Loans Only):

Indiana

Benton, Clinton, Fountain, Howard, Kosciusko, Lagrange, Lake, Laporte, Miami, Montgomery, Newton, Noble, Porter, St. Joseph, Starke,

Wabash, Warren.

Michigan

Cass, St. Joseph.

The Interest Rates are:

For Physical Damage

Homeowners With Credit Available Elsewhere: 5.875.

Homeowners Without Credit Available Elsewhere: 2.937.

Businesses With Credit Available Elsewhere: 8.000.

Other (Including Non-Profit Organizations) With Credit Available Elsewhere: 5.250.

Businesses And Non-Profit Organizations Without Credit Available Elsewhere: 4.000.

For Economic Injury

Businesses & Small Agricultural Cooperatives Without Credit Available Elsewhere: 4.000.

The number assigned to this disaster for physical damage is 11160B and for economic injury is 111610.

(Catalog of Federal Domestic Assistance Numbers 59002 and 59008)

Herbert L. Mitchell,
Associate Administrator for Disaster Assistance.

[FR Doc. E8-2152 Filed 2-5-08; 8:45 am]

BILLING CODE 8025-01-P